FEDERAL ELECTION COMMISSION

[NOTICE 2001-16]

Filing Dates for the Oklahoma Special Election in the 1st Congressional District

AGENCY: Federal Election Commission.

ACTION: Notice of filing dates for special election.

SUMMARY: Oklahoma has scheduled special elections to fill the U.S. House of Representatives seat in the First Congressional District being vacated by Congressman Steve Largent. There are three possible special elections, but only two may be necessary.

• Primary Election: December 11, 2001.

• Possible Runoff Election: January 8, 2002. In the event that one candidate does not achieve a majority vote in his/her party's Special Primary Election, the top two vote-getters will participate in a Special Runoff Election.

• General Election: February 12, 2002. However, if a Special Runoff Election is not necessary, the Special General will instead be held on January 8, 2002.

FOR FURTHER INFORMATION CONTACT: Mr. Gregory J. Scott, Information Division, 999 E Street, N.W., Washington, DC 20463; Telephone: (202) 694-1100; Toll Free (800) 424-9530.

SUPPLEMENTARY INFORMATION:

Principal Campaign Committees

Special Primary Only

All principal campaign committees of candidates only participating in the Oklahoma Special Primary shall file a 12-day Pre-Primary Report on November 29, 2001. (See chart below for the closing date for the report.)

Special Primary and General Without Runoff

If only two elections are held, all principal campaign committees of candidates participating in the Oklahoma Special Primary and Special General Elections shall file a 12-day Pre-Primary Report on November 29, 2001; a Pre-General Report on December 27, 2001; and a Post-General Report on February 7, 2002. (See chart below for the closing date for each report.)

Special Primary and Runoff Elections

If three elections are held, all principal campaign committees of candidates only participating in the Oklahoma Special Primary and Special Runoff Elections shall file a 12-day Pre-Primary Report on November 29, 2001; and a Pre-Runoff Report on December 27, 2001. (See chart below for the closing date for each report.)

Special Primary, Runoff and General Elections

All principal campaign committees of candidates participating in the Oklahoma Special Primary, Special Runoff and Special General Elections shall file a 12-day Pre-Primary Report on November 29, 2001; a Pre-Runoff Report on December 27, 2001; a Pre-General Report on January 31, 2002; and a Post-General Report on March 14, 2002. (See chart below for the closing date for each report.)

Unauthorized Committees (PACs and Party Committees)

Political committees that file on a semiannual basis during 2001 are subject to special election reporting if they make previously undisclosed contributions or expenditures in connection with the Oklahoma Special Primary, Runoff or General Elections by the close of books for the applicable report(s). Consult the chart below that corresponds to the committee's situation for close of books and filing date information.

Since disclosing financial activity from two different calendar years on one report would conflict with the calendar year aggregation requirements set forth in the Commission's disclosure regulations, unauthorized committees will be required to file certain special election reports on two separate forms. If three elections are held (Primary, Runoff and General), unauthorized committees that are required to file the Pre-General Report must file this report on two separate forms: one covering 2001 activity, labeled as the Year-End Report; and the other covering only 2002 activity, labeled as the Pre-General Report. Both forms must be filed by January 31, 2002. On the other hand, if a Runoff Election is not necessary and only two elections are held (Primary and General), unauthorized committees that are required to file the Post-General Report must file this report on two separate forms: one covering 2001 activity, labeled as the Year-End Report; and the other covering only 2002 activity, labeled as the Post-General Report. Both forms must be filed by February 7, 2002.

Committees filing monthly that support candidates in the Oklahoma Special Primary, Special Runoff or Special General Elections should continue to file according to the monthly reporting schedule.

Calender of Reporting Dates for Oklahoma Special Elections
Report | Close of books ¹ | Reg./cert. mailing date ² | Filing date
Committee involved in only the special primary (12/11/01) must file:
Pre-Primary | 11/21/01 | 11/26/01 | 11/29/01
Year-End | 12/31/01 | 01/31/02 | 01/31/02
If only two elections are held, committees involved in both the special primary (12/11/01) and the special general (01/08/02) ³ must file:
Pre-Primary | 11/21/01 | 11/26/01 | 11/29/01
Pre-General | 12/19/01 | 12/24/01 | 12/27/01
Year-End (Waived)
Post-General | 01/28/02 | 02/07/02 | 02/07/02
If three elections are held, committees involved in only the special primary (12/11/01) and special runoff (01/08/02) must file:
Pre-Primary | 11/21/01 | 11/26/01 | 11/29/01
Pre-Runoff | 12/19/01 | 12/24/01 | 12/27/01
Year-End | 12/31/01 | 01/31/02 | 01/31/02
Committees involved in the special primary (12/11/01), special runoff (01/08/02) and the special general (02/12/02) must file:
Pre-Primary | 11/21/01 | 11/26/01 | 11/29/01
Pre-Runoff | 12/19/01 | 12/24/01 | 12/27/01
Year-End (Waived)
Pre-General | 01/23/02 | 01/28/02 | 01/31/02
Post-General | 03/04/02 | 03/14/02 | 03/14/02
Committees involved in only the special runoff (01/08/02) must file:
Pre-Runoff | 12/19/01 | 12/24/01 | 12/27/01
Year-End | 12/31/01 | 01/31/02 | 01/31/02
If three elections are held, committees involved in only the special general (02/12/02) nust file:
Year-End (Waived)
Pre-General | 01/23/02 | 01/28/02 | 01/31/02
Post-General | 03/04/02 | 03/14/02 | 03/14/02
If two elections are held, committees involved in only the special general (01/08/02)³ must file:
Pre-General | 12/19/01 | 12/24/01 | 12/27/01
Year-End (Waived)
Post-General | 01/28/02 | 02/07/02 | 02/07/02
¹ The period begins with the close of books of the last report filed by the committee. If the committee has filed no previous reports, the period begins with the date of the committee's first activity.
² Reports sent registered or certified mail must be postmarked by the mailing date; otherwise, they must be received by the filing date.
³ If a Special Runoff Election is necessary, it will be held January 8, 2002, and the Special General Election will be held on February 12, 2002.

Dated: November 7, 2001.
Danny L. McDonald,
Chairman, Federal Election Commission.

[FR Doc. 01-28338 Filed 11-9-01; 8:45 am]

BILLING CODE 6715-01-P